DEPARTMENT OF TRANSPORTATION

Federal Aviation Administration

14 CFR Part 71

[Docket No. FAA-2018-0464 Airspace Docket No. 18-AGL-12]

RIN 2120-AA66

Amendment of V-97 and V-422 in the Vicinity of Chicago, IL

AGENCY: Federal Aviation Administration (FAA), DOT.

ACTION: Final rule.

SUMMARY: This action modifies two VHF Omnidirectional Range (VOR) Federal airways (V-97 and V-422) in the vicinity of Chicago, IL. The FAA is taking this action due to the planned decommissioning of the Chicago O'Hare, IL, VOR/Distance Measuring Equipment (VOR/DME) navigation aid, which provides navigation guidance for portions of the affected Air Traffic Service (ATS) routes.

DATES: Effective date 0901 UTC, January 3, 2019. The Director of the Federal Register approves this incorporation by reference action under Title 1 Code of Federal Regulations part 51, subject to the annual revision of FAA Order 7400.11 and publication of conforming amendments.

ADDRESSES: FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11C at NARA, call (202) 741-6030, or go to https://www.archives.gov/federal-register/cfr/ibr-locations.html.

FAA Order 7400.11, Airspace Designations and Reporting Points, is published yearly and effective on September 15.

FOR FURTHER INFORMATION CONTACT: Colby Abbott, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it supports the route structure within the National Airspace System to preserve the safe and efficient flow of air traffic.

History

The FAA published a notice of proposed rulemaking (NPRM) in the Federal Register for Docket No. FAA-2018-0464 (83 FR 24436; May 29, 2018), to amend VOR Federal airways V-97 and V-422 due to the planned decommissioning of the Chicago O'Hare, IL, VOR/DME. Interested parties were invited to participate in this rulemaking effort by submitting written comments on the proposal. No comments were received.

The NPRM stated that the Chicago O'Hare VOR/DME is being decommissioned to facilitate the construction of a new runway at Chicago O'Hare International Airport. In the 2005 Record of Decision (ROD) for the O'Hare Modernization Program and the Final Environmental Impact Statement, the FAA had planned to move the VOR to allow for the construction of a new runway. Subsequent to that ROD, the FAA initiated a plan for reducing the number of VORs.

On December 15, 2011, the FAA published in the Federal Register a notice of proposed policy and request for comments (76 FR 77939) on the FAA's proposed strategy for gradually reducing the current VOR network to a Minimum Operational Network (MON) as the National Airspace System (NAS) transitions to performance-based navigation (PBN) as part of the Next Generation Air Transportation System (NextGen). The FAA reviewed all comments received and on August 21, 2012, published in the Federal Register the disposition of the comments on the notice of proposed policy (77 FR 50420). In considering and disposing of the comments, the FAA noted that it would develop an initial VOR MON Plan which would be made publicly available.

On July 26, 2016, the FAA published in the Federal Register the VOR MON final policy statement (81 FR 48694) announcing the discontinuance selection criteria and candidate list of VOR navigational aids targeted for discontinuance as part of the VOR MON Implementation Program and NAS Efficient Streamline Services Initiative. This action is part of that national strategy.

VOR Federal airways are published in paragraph 6010(a) of FAA Order 7400.11C dated August 13, 2018, and effective September 15, 2018, which is incorporated by reference in 14 CFR 71.1. The VOR Federal airways listed in this document would be subsequently published in the Order.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

The FAA is amending Title 14 Code of Federal Regulations (14 CFR) part 71 by modifying the descriptions of VOR Federal airways V-97 and V-422. The planned decommissioning of the Chicago O'Hare, IL, VOR/DME has made these actions necessary. The VOR Federal airway changes are described below.

V-97: V-97 extends between the Dolphin, FL, VOR/Tactical Air Navigation (VORTAC) and the intersection of the Chicago Heights, IL, VORTAC 358° and Chicago O'Hare, IL, VOR/DME 127° radials (BEBEE fix), and between the intersection of the Northbrook, IL, VOR/DME 291° and Janesville, WI, VOR/DME 112° radials (KRENA fix) and the Gopher, MN, VORTAC. The airspace below 2,000 feet mean sea level (MSL) outside the United States is excluded. The airway segment between the intersection of the Chicago Heights, IL, VORTAC 358° and DuPage, IL, VOR/DME 101° radials (NILES fix) and the intersection of the Chicago Heights, IL, VORTAC 358° and Chicago O'Hare, IL, VOR/DME 127° radials (BEBEE fix) is removed. Also, the KRENA fix is redefined in its existing location using the intersection of the DuPage, IL, VOR/DME 347° and Janesville, WI, VOR/DME 112° radials. The unaffected portions of the existing airway remain as charted.

V-422: V-422 extends between the intersection of the Chicago O'Hare, IL, VOR/DME 127° and Chicago Heights, IL, VORTAC 358° radials (BEBEE fix) and the Flag City, OH, VORTAC. The airway segment between the intersection of the Chicago Heights, IL, VORTAC 358° and Chicago O'Hare, IL, VOR/DME 127° radials (BEBEE fix) and the intersection of the Chicago Heights, IL, VORTAC 358° and DuPage, IL, VOR/DME 101° radials (NILES fix) is removed. The unaffected portions of the existing airway remain as charted.

All radials in the route descriptions below are stated in True degrees.

Additionally, a minor editorial correction is made to the V-97 airway description to correct the state abbreviation for the Cincinnati, KY, VORTAC. The “Cincinnati, OH” airway point listed is changed to “Cincinnati, KY”.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying VOR Federal airways V-97 and V-422 near Chicago, IL, qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018 and effective September 15, 2018, is amended as follows:

Paragraph 6010(a) Domestic VOR Federal Airways

* * * * *

V-97 [Amended]

From Dolphin, FL; La Belle, FL; St. Petersburg, FL; Seminole, FL; Pecan, GA; Atlanta, GA; INT Atlanta 001° and Volunteer, TN, 197° radials; Volunteer; London, KY; Lexington, KY; Cincinnati, KY; Shelbyville, IN; INT Shelbyville 313° and Boiler, IN, 136° radials; Boiler; Chicago Heights, IL; to INT Chicago Heights 358° and DuPage, IL, 101° radials. From INT DuPage, IL, 347° and Janesville, WI, 112° radials; Janesville; Lone Rock, WI; Nodine, MN; to Gopher, MN. The airspace below 2,000 feet MSL outside the United States is excluded.

* * * * *

V-422 [Amended]

From INT DuPage, IL, 101° and Chicago Heights, IL, 358° radials; Chicago Heights; INT Chicago Heights 117° and Knox, IN, 276° radials; Knox; Webster Lake, IN; INT Webster Lake 097° and Flag City, OH, 289° radials; to Flag City.

Issued in Washington, DC, on October 24, 2018.
Rodger A. Dean Jr.,
Manager, Airspace Policy Group.

[FR Doc. 2018-23564 Filed 10-26-18; 8:45 am]

BILLING CODE 4910-13-P